DEPARTMENT OF TRANSPORTATION

Federal Railroad Administration

[Docket Number FRA-2019-0058]

Petition for Waiver of Compliance

Under part 211 of Title 49 Code of Federal Regulations (CFR), this provides the public notice that by letter dated July 26, 2019, the New York, Susquehanna & Western Railway Corporation (NYSW) petitioned the Federal Railroad Administration (FRA) for a waiver of compliance from certain provisions of the Federal railroad safety regulations contained at 49 CFR 234. 271, Insulated rail joints, bond wires, and track connections. FRA assigned the petition Docket Number FRA-2019-0058.

Specifically, NYSW requests relief from the requirement that insulated rail joints, bond wires, and track connections be inspected once every three months, for the following highway-rail grade crossings (HGRC) located in Utica, NY: (1) DOT #264337H-milepost (MP) U284.84—Noyes Street; (2) DOT #264329R-MP U285.38—Court Street; and (3) DOT #264328J-MP U2865.54—Columbia Street. The affected HRGCs are located on a portion of rail line within the NYSW's Utica Yard Limits. Train movements are made on verbal permission of the Train Dispatcher. Within the yard limits, the trackage enters the city of Utica in a general southwest to northeast direction, traversing a section of street trackage. For a distance of 3,400 feet, the trackage is centered in the asphalt roadway of Schuyler Street. The street trackage itself is assigned DOT #93565Y.

NYSW explains that prior to 1982, the HRGCs in the Schuyler Street trackage were manually operated from a watchman's shanty located near the northeast end of the street trackage. In 1983, the HRGCs were upgraded with automatic flashing light signals, with trains detected by Style C track circuits. Since that time, Court Street has been further upgraded to a motion detector track circuit. At the time of the 1983 installation, the affected HRGC warning devices were not subject to 49 CFR part 234, and when installed, no provisions were made in the asphalt surface of Schuyler Street to access the track wire connections to the web of the running rails. Insulated joints are also not able to be fully visually inspected. NYSW's petition states it “will monitor track relay voltages and motion detector transmitter check readings monthly and form baseline readings.”

A copy of the petition, as well as any written communications concerning the petition, is available for review online at www.regulations.gov and in person at the U.S. Department of Transportation's Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 3, 2019 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.transportation.gov/privacy. See also http://www.regulations.gov/#!privacyNotice for the privacy notice of regulations.gov.

Issued in Washington, DC.
John Karl Alexy,
Associate Administrator for Railroad Safety, Chief Safety Officer.

[FR Doc. 2019-17711 Filed 8-16-19; 8:45 am]

BILLING CODE 4910-06-P